INTERNATIONAL TRADE COMMISSION

[Investigation Nos. 701-TA-602 and 731-TA-1412 (Final)]

Steel Wheels From China; Revised Schedule for the Final Phase of Countervailing Duty and Anti-Dumping Duty Investigations

AGENCY: United States International Trade Commission.

ACTION: Notice.

DATES: February 6, 2019.

FOR FURTHER INFORMATION CONTACT: Jordan Harriman (202-205-2610), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for this investigation may be viewed on the Commission's electronic docket (EDIS) at https://edis.usitc.gov.

SUPPLEMENTARY INFORMATION: On October 23, 2018, the Commission established a schedule for the conduct of the final phase investigations (83 FR 61672, November 30, 2018). Due to the lapse in appropriations and ensuing cessation of Commission operations, the Commission is revising its schedule.

The Commission's revised dates in the schedule are as follows: Deadline for filing prehearing briefs is February 25, 2019; requests to appear at the hearing should be filed on or before March 7, 2019; a prehearing conference will be held on March 12, 2019, if deemed necessary; the hearing is on Thursday, March 14, 2019 beginning at 9:30 a.m.; the deadline for filing posthearing briefs and for written statements from any person who has not entered an appearance as a party is March 26, 2019; final release of information is on April 16, 2019; and final party comments are due on April 19, 2019.

For further information concerning these reviews, see the Commission's notice cited above and the Commission's Rules of Practice and Procedure, part 201, subparts A through E (19 CFR part 201), and part 207, subparts A, D, E, and F (19 CFR part 207).

Authority: These reviews are being conducted under authority of title VII of the Tariff Act of 1930; this notice is published pursuant to section 207.21 of the Commission's rules.

By order of the Commission.
Issued: February 7, 2019.
Lisa Barton,
Secretary to the Commission.

[FR Doc. 2019-02076 Filed 2-11-19; 8:45 am]

BILLING CODE 7020-02-P